NATIONAL CREDIT UNION ADMINISTRATION

Agency Information Collection Activities: Proposed Collection; Comment Request

AGENCY: National Credit Union Administration (NCUA).

ACTION: Notice and request for comment.

SUMMARY: The National Credit Union Administration (NCUA), as part of its continuing effort to reduce paperwork and respondent burden, invites the general public and other Federal agencies to comment the following information collections, as required by the Paperwork Reduction Act of 1995 (Public Law 104-13, 44 U.S.C. Chapter 35).

DATES: Written comments should be received on or before August 31, 2016 to be assured consideration.

ADDRESSES: Interested persons are invited to submit written comments on the information collections to Dawn Wolfgang, National Credit Union Administration, 1775 Duke Street, Suite 5067, Alexandria, Virginia 22314; Fax No. 703-519-8579; or Email at PRAComments@NCUA.gov.

FOR FURTHER INFORMATION CONTACT: Requests for additional information should be directed to the address above.

SUPPLEMENTARY INFORMATION:

OMB Number: 3133-0108.

Title: Monitoring Bank Secrecy Act Compliance, 12 CFR 748.2.

Abstract: Section 748.2 of NCUA's regulations, directs credit unions to establish a Bank Secrecy Act (BSA) compliance program that maintains procedures designed to assure and monitor compliance with the requirement of 31 U.S.C., Chap. 53, Subchapter II (sec. 5301-5329), the Bank Secrecy Act (31 U.S.C. 5318(g)), and 31 CFR Chapter X (parts 1000-1099), Financial Crimes Enforcement Network, Department of the Treasury. Each federally insured credit union (FICU) must develop and provide for the continued administration of a BSA compliance program to assure and monitor compliance with the recordkeeping and recording requirements prescribed by the BSA. At a minimum, a compliance program shall provide for a system of internal controls, independent testing for compliance, designation of an individual responsible for coordinating and monitoring day-to-day compliance; and training. NCUA examiners review the program to determine whether the credit union's procedures comply with all BSA requirements.

Type of Review: Extension of a previously approved collection.

Affected Public: Private Sector: Not-for-profit institutions.

Estimated No. of Respondents/Recordkeepers: 5,954.

Estimated Annual Frequency: 1.

Estimated Annual No. of Responses: 5,954.

Estimated Burden Hours per Response: 16.

Estimated Total Annual Burden Hours: 95,264.

Adjustment are being made to reflect the decline in the number of FICUs.

OMB Number: 3133-0146.

Title: Production of Non-public Records and Testimony of Employees in Legal Proceedings (Touhy Request).

Abstract: Title 12 CFR part 792, subpart C, requires anyone requesting NCUA non-public records for use in legal proceedings, or similarly the testimony of NCUA personnel, to provide NCUA with information regarding the requester's grounds for the request. This process is also known as a “Touhy Request”. The information collected will help the NCUA decide whether to release non-public records or permit employees to testify in legal proceedings.

Type of Review: Extension of a previously approved collection.

Affected Public: Private Sector: Not-for-profit institutions.

Estimated No. of Respondents: 20.

Estimated Annual Frequency: 1.

Estimated Annual No. of Responses: 20.

Estimated Burden Hours per Response: 2.

Estimated Total Annual Burden Hours: 40.

OMB Number: 3133-0181.

Title: Registration of Mortgage Loan Originators.

Abstract: The Secure and Fair Enforcement for Mortgage Licensing Act (S.A.F.E. Act), 12 U.S.C. 5101 et seq., as codified by 12 CFR part 1007, requires an employee of a bank, savings association, or credit union or a subsidiary regulated by a Federal banking agency or an employee of an institution regulated by the Farm Credit Administration (FCA), (collectively, Agency-regulated Institutions) who engages in the business of a residential mortgage loan originator (MLO) to register with the Nationwide Mortgage Licensing System and Registry (Registry) and obtain a unique identifier. Agency-regulated institutions must also adopt and follow written policies and procedures to assure compliance with the S.A.F.E. Act. The Registry is intended to aggregate and improve the flow of information to and between regulators; provide increased accountability and tracking of mortgage loan originators; enhance consumer protections; reduce fraud in the residential mortgage loan origination process; and provide consumers with easily accessible information at no charge regarding the employment history of, and the publicly adjudicated disciplinary and enforcement actions against MLOs.

Type of Review: Reinstatement of a previously approved collection.

Affected Public: Individuals or households; Private Sector: Not-for-profit institutions.

Estimated No. of Respondents/Recordkeepers: 56,276 MLO; 3,357 Federal-Insured Credit Unions (FICU).

Estimated Annual Frequency: 2.25.

Estimated Annual No. of Responses: 132,068.

Estimated Burden Hours per Response: 0.58.

Estimated Total Annual Burden Hours: 76,204.

Adjustment are being made to provide updated recordkeeping burden on FICU. Since 2010, the registry is a standard business practice for MLOs and adjustment have been made to reflect this decrease.

Request for Comments: Comments submitted in response to this notice will be summarized and included in the request for Office of Management and Budget approval. All comments will become a matter of public record. The public is invited to submit comments concerning: (a) Whether the collection of information is necessary for the proper performance of the function of the agency, including whether the information will have practical utility; (b) the accuracy of the agency's estimate of the burden of the collection of information, including the validity of the methodology and assumptions used; (c) ways to enhance the quality, utility, and clarity of the information to be collected; and (d) ways to minimize the burden of the collection of the information on the respondents, including the use of automated collection techniques or other forms of information technology.

By Gerard Poliquin, Secretary of the Board, the National Credit Union Administration, on July 27, 2016.
Dated: July 27, 2016.
Dawn D. Wolfgang,
NCUA PRA Clearance Officer.

[FR Doc. 2016-18135 Filed 7-29-16; 8:45 am]

BILLING CODE 7535-01-P